FEDERAL MARITIME COMMISSION

[Docket No. 16-02]

D.F. Young, Inc. v. NYK Line (North America) Inc.; Notice of Filing of Complaint and Assignment

Notice is given that a complaint has been filed with the Federal Maritime Commission (Commission) by D.F. Young, Inc., hereinafter “Complainant,” against NYK Line (North America) Inc., hereinafter “Respondent.” Complainant states that it is an ocean transportation intermediary licensed by the Commission and a Pennsylvania corporation. Complainant alleges that Respondent is a New York corporation and a common carrier of goods by water.

Complainant alleges that Respondent has violated the Shipping Act, 46 U.S.C. 41102, and the Commission's regulations at 46 CFR 515.42 “by refusing to compensate Complainant for the freight forwarding services performed on Ford [Motor Company] shipments placed on vessels owned/and or operated by Respondent and/or its agents or affiliates, for which Respondent received freight charges, according to the terms of the Respondent's applicable tariffs . . . .”

Complainant seeks an award of reparations in the amount of $252,776.89, plus interest and attorneys fees, “a payment of additional amounts, not exceeding twice the amount of any award for injuries” if violation of 46 U.S.C. 41103(3) be shown, and “other such relief or award as the FMC shall determine.”

The full text of the complaint can be found in the Commission's Electronic Reading Room at www.fmc.gov/16-02.

This proceeding has been assigned to the Office of Administrative Law Judges. The initial decision of the presiding officer in this proceeding shall be issued by February 3, 2017, and the final decision of the Commission shall be issued by August 17, 2017.

Karen V. Gregory,
Secretary.

[FR Doc. 2016-02453 Filed 2-8-16; 8:45 am]

BILLING CODE 6731-AA-P